DEPARTMENT OF JUSTICE

National Institute of Corrections

Advisory Board; Notice of Meeting

This notice announces a forthcoming meeting of the National Institute of Corrections (NIC) Advisory Board. The meeting will be open to the public, with one portion closed to the public.

Name of the Committee: NIC Advisory Board.

General Function of the Committee: To aid the National Institute of Corrections in developing long-range plans, advise on program development, and recommend guidance to assist NIC's efforts in the areas of training, technical assistance, information services, and policy/program development assistance to Federal, state, and local corrections agencies.

Date and Time: 8:00 a.m.-4:30 p.m. on Thursday, June 21, 2018; 8:00 a.m.-11:00 a.m. on Friday, June 22, 2018

Location: National Institute of Corrections, 500 First Street NW, 2nd Floor, Washington, DC 20534, (202) 514-4202.

Contact Person: Shaina Vanek, Acting Director, National Institute of Corrections, 320 First Street NW, Room 5002, Washington, DC 20534. To contact Ms. Vanek, please call (202) 514-4202.

Agenda: On June 21, 2018, the Advisory Board will discuss/address the following topics:

(1) Agency Report from the NIC Acting Director,

(2) briefings on current activities and future goals, and

(3) updates from partner agencies and associations. On June 22, 2018, the Advisory Board will discuss the NIC Director candidates, the status of the position, and the related appointment process.

Procedure: On June 21, 2018, the meeting is open to the public. Interested persons may present data, information, or views, orally or in writing, on issues pending before the committee. Written submissions may be made to the contact person on or before June 8, 2018. Oral presentations from the public will be scheduled between approximately 11:15 a.m. to 11:45 a.m. and 3:45 p.m. and 4:15 p.m. on June 21, 2018. Time allotted for each presentation may be limited. Those desiring to make formal oral presentations should notify the contact person and submit a brief statement of the general nature of the evidence or arguments they wish to present, the names and addresses of proposed participants, and an indication of the approximate time requested to make their presentation on or before June 8, 2018.

Closed Committee Deliberations: June 22, 2018, between 8:00 a.m. and 11:00 a.m., the meeting will be closed to permit discussion of information that (1) relates solely to the internal personnel rules and practices of an agency (5 U.S.C. 552b(c)(2)), and (2) is of a personal nature where disclosure would constitute a clearly unwarranted invasion of personal privacy (5 U.S.C. 552b(c)(6)). The Advisory Board will discuss the NIC Director candidates and recommendations made to the U.S. Attorney General, the status of the position, and the related appointment process.

General Information: NIC welcomes the attendance of the public at its advisory committee meetings and will make every effort to accommodate persons with physical disabilities or special needs. If you require special accommodations due to a disability, please contact Shaina Vanek at least 7 days in advance of the meeting. Notice of this meeting is given under the Federal Advisory Committee Act (5 U.S.C. app. 2).

Shaina Vanek,
Acting Director, National Institute of Corrections.

[FR Doc. 2018-10406 Filed 5-15-18; 8:45 am]

BILLING CODE 4410-36-P